INTERNATIONAL TRADE COMMISSION

[Investigation Nos. 701-TA-540-543 and 731-TA-1283-1287 and 1290 (Review)]

Cold-Rolled Steel Flat Products From Brazil, China, India, Japan, South Korea, and the United Kingdom

Determinations

On the basis of the record ¹ developed in the subject five-year reviews, the United States International Trade Commission (“Commission”) determines, pursuant to the Tariff Act of 1930 (“the Act”), that revocation of the countervailing duty orders on cold-rolled steel flat products (“cold-rolled steel”) from China, India, and South Korea and the antidumping duty orders on cold-rolled steel from China, India, Japan, South Korea, and the United Kingdom would be likely to lead to continuation or recurrence of material injury to an industry in the United States within a reasonably foreseeable time. The Commission further determines that revocation of the countervailing and antidumping duty orders on cold-rolled steel from Brazil would not be likely to lead to continuation or recurrence of material injury to an industry in the United States within a reasonably foreseeable time.²

¹ The record is defined in § 207.2(f) of the Commission's Rules of Practice and Procedure (19 CFR 207.2(f)).

² Commissioners Rhonda K. Schmidtlein and Randolph J. Stayin determine that revocation of the countervailing duty orders on CRS from Brazil, China, India, and South Korea and the antidumping duty orders on CRS from Brazil, China, India, Japan, South Korea, and the United Kingdom would be likely to lead to continuation or recurrence of material injury to an industry in the United States within a reasonably foreseeable time.

Background

The Commission instituted these reviews on June 1, 2021 (86 FR 29286) and determined on September 7, 2021 that it would conduct full reviews (86 FR 52180, September 20, 2021). Notice of the scheduling of the Commission's reviews and of a public hearing to be held in connection therewith was given by posting copies of the notice in the Office of the Secretary, U.S. International Trade Commission, Washington, DC, and by publishing the notice in the Federal Register on December 13, 2021 (86 FR 70864). The Commission conducted its hearing on May 24, 2022. All persons who requested the opportunity were permitted to participate.

The Commission made these determinations pursuant to section 751(c) of the Act (19 U.S.C. 1675(c)). It completed and filed its determinations in these reviews on August 9, 2022. The views of the Commission are contained in USITC Publication 5339 (August 2022), entitled Cold-Rolled Steel Flat Products from Brazil, China, India, Japan, South Korea, and the United Kingdom: Investigation Nos. 701-TA-540-543 and 731-TA-1283-1287 and 1290 (Review).

By order of the Commission.
Issued: August 9, 2022.
Katherine Hiner,
Acting Secretary to the Commission.

[FR Doc. 2022-17399 Filed 8-11-22; 8:45 am]

BILLING CODE 7020-02-P